DEPARTMENT OF HEALTH AND HUMAN SERVICES

Office of Public Health and Science; Announcement of Anticipated Availability of Funds for Family Planning Services Grants

AGENCY: Office of Population Affairs, OPHS, HHS.

ACTION: Notice.

SUMMARY: The Office of Population Affairs (OPA) announces the anticipated availability of funds for Fiscal Year (FY) 2002 family planning services grants under the authority of Title X of the Public Health Service Act and solicits applications for competing grants awards to serve the areas and/or populations set out below. Only applications which propose to serve the populations and/or areas listed in Table I will be accepted for review and possible funding. A description of Title X Family Planning Program can be found at OMB Catalog of Federal Domestic Assistance 93.217.

DATES: Application and funding dates vary. See SUPPLEMENTARY INFORMATION below.

ADDRESSES: Applications for grants in DHHS Regions I-X should be sent to: Office of Grants Management for Family Planning Services, 1301 Young Street, Suite 766, Dallas, TX 75202.

FOR FURTHER INFORMATION CONTACT:

Administrative and Budgetary Requirements

Regions I-X: Maudeen Pickett, Office of Grants Management for Family Planning Services, 214-767-3401,

Program Requirements

Regional Program Consultants for Family Planning: Region I (Connecticut, Maine, Massachusetts, New Hampshire, Rhode Island, Vermont)—Suzanne Theroux, 617-565-1063; Region II (New Jersey, New York, Puerto Rico, Virgin Islands)—Lucille Katz, 212-264-3935; Region III (Delaware, Washington, DC, Maryland, Pennsylvania, Virginia, West Virginia)—Louis Belmonte, 215-861-4641; Region IV (Kentucky, Mississippi, North Carolina, Tennessee, Alabama, Florida, Georgia, South Carolina)—Cristino Rodriguez, 404-562-7900; Region V (Illinois, Indiana, Michigan, Minnesota, Ohio, Wisconsin)—Janice Ely, 312-886-3864; Region VI (Arkansas, Louisiana, New Mexico, Oklahoma, Texas)—Evelyn Glass, 214-767-3088; Region VII (Iowa, Kansas, Missouri, Nebraska)—Elizabeth Curtis, 816-426-2924; Region VIII (Colorado Montana, North Dakota, South Dakota, Utah, Wyoming)—Christy Crosser, 303-884-7849 or Jil Leslie, 303-844-7856; Region IX (Arizona, California, Hawaii, Nevada, Commonwealth of the Northern Mariana Islands, American Samoa, Guam, Republic of Palau, Federal States of Micronesia, Republic of the Marshall Islands)—Nadine Simons, 415-437-7984; Region X (Alaska, Idaho, Oregon, Washington)—Janet Wildeboor, 206-615-2776.

SUPPLEMENTARY INFORMATION:

Definitions

For the purposes of this announcement, the following definitions apply:

Application/Proposal (used interchangeably)—a request for financial support of a project submitted to OPA on specified forms and in accordance with instructions provided.

Grant—financial assistance in the form of money, awarded by the Federal Government to an eligible recipient (a grantee or recipient is the entity that receives a Federal grant and assumes the legal and financial responsibility and accountability for the awarded funds and performance of activities approved for funding).

Project—those activities described in the grant application and supported under the approved budget.

Eligible Applicants—any public or private nonprofit entity located in a state (which includes the District of Columbia, Guam, the Commonwealth of Puerto Rico, the Northern Mariana Islands, the U.S. Virgin Islands, American Samoa, the U.S. Outlying Islands [Midway, Wake et al.], the Marshall Islands, the Federated States of Micronesia and the Republic of Palau) is eligible to apply for a Title X family planning services grant.

Title X of the Public Health Service Act, 42 U.S.C. 300, et seq. authorizes the Secretary of Health and Human Services (HHS) to award grants to public or private nonprofit organizations to establish and operate voluntary family planning projects. Projects must offer a broad range of acceptable and effective medically approved family planning methods and services. The statute requires that, to the extent practicable, Title X service providers should encourage family participation. Title X family planning funds may not be used in programs where abortion is a method of family planning.

Requirements regarding the provision of family planning services under title X can be found in the Title X statute, the implementing regulations which govern project grants for family planning services (42 CFR part 59, Subpart A), and the “Program Guidelines for Project Grants for Family Planning Service,” published in January 2001. A copy of the Program Guidelines may be obtained by contacting the Office of Grants Management for Family Planning Services (at the address above), or downloaded from the Office of Population Affairs web site at www.hhs.gov/opa/grants.html. All Title X requirements—including those derived from the statute, the regulations, and the Program Guidelines—apply to all activities funded under this announcement. (For example, projects must meet the regulatory requirements set out at 42 CFR 59.5 regarding charges to clients, and the funding criteria set out at 42 CFR 59.7 apply to all applicants under this announcement. As stipulated in § 59.7(b) “* * * No grant may be made for less than 90 percent of the project's costs, as so estimated, unless the grant is to be made for a project that was supported, under section 1001, for less than 90 percent of its costs in fiscal year 1975. In that case, the grant shall be not be for less than the percentage of costs covered by the grant in fiscal year 1975.” Furthermore, § 59.7(c) stipulates that “No grant may be made for an amount equal to 100 percent for the project's estimated costs.”)

The anticipated FY 2002 appropriation for the Title X Family Planning program is approximately $253.9 million. Of this amount, approximately $11.4 million will be made available for competing grant awards. A minimum of ten grants will be awarded. (See Table I for approximate amount of awards.) The remaining funds will be used for continued support of grants and activities which are not competitive in FY 2002. This program announcement is subject to the appropriation of funds and is a contingency action taken to ensure that, should funds become available for this purpose, applications can be processed in an orderly fashion, and funds can be awarded in a timely fashion.

This notice announces the anticipated availability of funds for competitive family planning service grants in 10 states. Competing grant applications are invited for the following areas (please note, in order to maximize access to family planning services, one or more grants may be awarded for each area listed):

Table I
Populations/areas to be served | Approximate funding available | Application due date | Approx. grant funding date
Region I
New Hampshire | $1,100,000 | 09-01-01 | 01-01-02
Rhode Island | 710,000 | 09-01-01 | 01-01-02
Massachusetts | 4,300,000 | 09-01-01 | 01-01-02
Region II
No competitive grants available in FY 2002.
Region III
Washington, D.C. | 930,000 | 09-01-01 | 01-01-02
Region IV
No competitive grants available in FY 2002.
Region V
No competitive grants available in FY 2002.
Region VI
No competitive grants available in FY 2002.
Region VII
No competitive grants available in FY 2002.
Region VIII
Wyoming | 594,000 | 09-01-01 | 01-01-02
South Dakota | 650,000 | 03-01-02 | 07-01-02
Migrant workers in the Greely, CO area | 150,000 | 06-01-02 | 09-30-02
Region IX
Gila River Indian | 239,000 | 03-01-02 | 07-01-02
Region X
Oregon | 2,300,000 | 03-01-02 | 07-01-02
Alaska—Anchorage and surrounding suburbs; Homer; Sitka; Soldotna; Mat-Su Burrow | 425,000 | 03-01-02 | 07-01-02

Incorporation Program Priorities and Key Issues for Family Planning

The following priorities represent overarching goals for the Title X program. The application should describe how the proposed project will address each priority:

(1) Assurance of continued high quality clinical family planning and reproductive health services that will improve the overall health of individuals;

(2) Increasing access to family planning and reproductive health services by partnering with public health providers and other community-based organizations that have related interests and that work with similar populations;

(3) Emphasis on clinical services for hard-to-reach populations, e.g., uninsured or under-insured women, males in need of clinical services, adolescents, substance abusers, migrant workers, and the homeless; and

(4) Assuring access to comprehensive family planning and reproductive health clinical services, including provision of highly effective contraceptive methods; breast and cervical cancer screening and prevention; and STD and HIV prevention education, counseling, and testing.

In addition, the following key issues impact the current and future delivery of family planning services, and should be considered when developing the proposal:

(1) The U.S. Department of Health and Human Services' priorities and Healthy People 2010 objectives (http://www.health.gov/healthypeople);

(2) Medicaid waivers, managed care, State Children's Health Insurance Program (SCHIP), Temporary Assistance to Needy Families (TANF), Title XX of the Social Services Block Grant, state support, and private insurance coverage related to family planning and reproductive health services;

(3) Increased need for current and reliable data to use in program planning and monitoring program performance;

(4) Use of electronic technologies in program activities and management;

(5) Use of science-based information to support program activities; and

(6) Legislative mandates such as counseling teens on involving families and avoiding coercive sexual relationships, and program compliance with state reporting laws regarding sexual abuse.

Application Requirements

Application kits (including the application form, PHS 5161-1, Revised 7/00, OMB Approval No. 0937-0189) may be obtained by contacting the Office of Grants Management for Family Planning Services (at the address listed above), or downloaded from the Office of Population Affairs web site at www.hhs.gov/opa/grants.html. Completed applications must be submitted to the Office of Grants Management for Family Planning Services.

Applications will be considered as meeting the deadline if they are postmarked on or before the application due date (listed for all areas in Table I). A legibly dated receipt from a commercial carrier or U.S. Postal Service will be accepted in lieu of a postmark. Private metered postmarks will not be accepted as proof of timely mailing. All hand delivered applications must be received between the hours of 8:30 a.m. and 5 p.m. on or before the application due date. Applications which do not meet the deadline will be considered late and will not be accepted for review. Also, applications which do not meet the requirements of this program announcement and/or the applicable regulatory requirements at 42 CFR part 59, Subpart A, will not be accepted for review. Any application which is not accepted will be returned to the applicant. Applications will not be accepted by fax or e-mail. The submission deadlines will not be extended.

Applications must address all applicable regulatory requirements [59.7(a)]. The information collections (reporting requirements) contained in this notice have been approved by the Office of Management and Budget and assigned control number 0937-0189.

The Office of Public Health and Science (OPHS) requires all grant recipients to provide a smoke-free workplace and to promote the non-use of all tobacco products. This is consistent with the OPHS mission to protect and advance the physical and mental health of the American people.

Application Review and Evaluation

Each regional office is responsible for evaluating applications and setting funding levels according to criteria in 42 CFR 59.7.

Applications will be evaluated based on the following criteria (42 CFR 59.7(a)):

(1) The degree to which the project plan adequately provides for the requirements set forth in the Title X regulations (20 points);

(2) The extent to which family planning services are needed locally (20 points);

(3) The number of patients, and, in particular, the number of low-income patients to be served (15 points);

(4) The adequacy of the applicant's facilities and staff (15 points);

(5) The capacity of the applicant to make rapid and effective use of the Federal assistance (10 points);

(6) The relative availability of non-Federal resources within the community to be served and the degree to which those resources are committed to the project (10 points); and

(7) The relative need of the applicant (10 points).

Review Under Executive Order 12372

Applicants under this announcement are subject to the review requirements of Executive Order 12372, Intergovernmental Review of Department of Health and Human Services Programs and Activities, as implemented by 45 CFR part 100. As soon as possible, the applicant should discuss the project with the State Single Point of Contact (SPOC) for each State to be served. The application kit contains the currently available listing of the SPOCs which have elected to be informed of the submission of applications. For those States not listed, further inquiries regarding the review process designed by their state should be made to the Governor's office of the pertinent State. In order to be considered, the Grants Management Office must receive State Single Point of Contact comments not later than 30 days prior to the grant funding date.

Grant Awards

When final funding decisions have been made, each applicant will be notified by letter of the outcome of its application. Applicant projects selected for funding will receive a Notice of Grant Award, the official document notifying an applicant that a project application has been approved for funding. This document specifies to the grantee the amount of money awarded, the purposes of the grant, the length of the project period, and terms and conditions of the grant award.

Grant projects are generally approved for 3 to 5 years. An annual non-competitive continuation application is required to obtain continued support. Application kits for non-competing grants will automatically be sent to the project director indicated on the Notice of Grant Award. Continuation awards are subject to factors such as the availability of funds and satisfactory progress of the project. In all cases, continuation awards require a determination by HHS that continued funding is in the best interest of the Federal Government.

Mireille B. Kanda,
Acting Director, Office of Population Affairs.

[FR Doc. 01-14457 Filed 6-7-01; 8:45 am]

BILLING CODE 4150-34-M